DEPARTMENT OF ENERGY

Federal Energy Regulatory Commission

[Docket Nos. RP03-398-000, and RP04-155-000 (Consolidated)]

Northern Natural Gas Company; Notice of Informal Settlement Conference

June 21, 2004.

Take notice that an informal settlement conference will be convened in this proceeding at the offices of the Federal Energy Regulatory Commission, 888 First Street, NE., Washington, DC 20426 commencing at 1 p.m. on Monday, June 28, 2004, and continuing, if necessary, at 9:30 a.m. on Tuesday, June 29, 2004 (e.s.t.), in a room to be announced later, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Kevin Frank (202) 502-8065 kevin.frank@ferc.gov, Gopal Swaminathan (202) 502-6132, gopal.swaminathan@ferc.gov, or William Collins (202) 502-8248 william.collins@ferc.gov.

Magalie R. Salas,
Secretary.

[FR Doc. E4-1438 Filed 6-28-04; 8:45 am]

BILLING CODE 6717-01-P